SMALL BUSINESS ADMINISTRATION

[Disaster Declaration #11541 and #11542]

California Disaster Number CA-00132

AGENCY: U.S. Small Business Administration.

ACTION: Amendment 1.

SUMMARY: This is an amendment of the Presidential declaration of a major disaster for the State of California (FEMA-1810-DR), dated 11/18/2008.

Incident: Wildfires.

Incident Period: 11/13/2008 and continuing through 11/28/2008.

Effective Date: 11/28/2008.

Physical Loan Application Deadline Date: 01/21/2009.

EIDL Loan Application Deadline Date: 08/18/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the President's major disaster declaration for the State of California, dated 11/18/2008 is hereby amended to establish the incident period for this disaster as beginning 11/13/2008 and continuing through 11/28/2008.

All other information in the original declaration remains unchanged.

(Catalog of Federal Domestic Assistance Numbers 59002 and 59008)

Herbert L. Mitchell,
Associate Administrator for Disaster Assistance.

[FR Doc. E8-29116 Filed 12-8-08; 8:45 am]

BILLING CODE 8025-01-P